DEPARTMENT OF COMMERCE

National Oceanic and Atmospheric Administration

RIN: 0648-XO61

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scientific and Statistical Committee to consider actions affecting New England fisheries in the exclusive economic zone (EEZ). Recommendations from this group will be brought to the full Council for formal consideration and action, if appropriate.

DATES: This meeting will be held on Thursday, April 30, 2009 at 10 a.m. and Friday, May 1, 2009 at 9 a.m.

ADDRESSES: The meeting will be held at the Sheraton Ferncroft Hotel, 55 Ferncroft Road, Danvers, MA 01923; telephone: (978) 777-2500; fax: (978) 750-7959.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Thursday, April 30, 2009

The Scientific and Statistical Committee (SSC) will review the Monkfish Plan Development Team's analyses for determining monkfish acceptable biological catch, annual catch limits and accountability measures and proposed methods for the development of Atlantic herring acceptable biological catch, annual catch limits and accountability measures.

Friday, May 1, 2009

The SSC will review methods proposed by the Groundfish Plan Development Team for determining acceptable biological catch, annual catch limits and accountability measures for the 19 stocks in the Northeast Multispecies complex and possibly discuss proposed rebuilding strategies for overfished groundfish stocks.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: April 6, 2009.
Tracey L. Thompson,
Acting Director, Office of Sustainable Fisheries, National Marine Fisheries Service.

[FR Doc. E9-8145 Filed 4-9-09; 8:45 am]

BILLING CODE 3510-22-S